DEPARTMENT OF JUSTICE

Antitrust Division

Notice Pursuant to the National Cooperative Research and Production Act of 1993—Petroleum Environmental Research Forum (“PERF”) Project No. 99-05

Notice is hereby given that, on December 4, 2000, pursuant to Section 6(a) of the National Cooperative Research and Production Act of 1993, 15 U.S.C. 4301 et seq. (“the Act”), Petroleum Environmental Research Forum (“PERF”) Project No. 99-05 has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are BP Amoco Chemical Company, Alvin, TX; Berwanger, Inc., Houston, TX; Anderson Greenwood Crosby, Stafford, TX; Dresser Equipment Group, Inc., Alexandria, LA; ExxonMobil Research and Engineering, Fairfax, VA; Shell Oil Company, Houston, TX; and Texaco Inc., Bellaire, TX.

The nature and objectives of the venture are to conduct a joint research project to evaluate the stability of pressure relief devices.

Constance K. Robinson,
Director of Operations, Antitrust Division.

[FR Doc. 01-5484 Filed 3-6-01; 8:45 am]

BILLING CODE 4410-11-M